Title 3—

The President

Proclamation 10617 of September 1, 2023

Labor Day, 2023

By the President of the United States of America

A Proclamation

I have often said that the middle class built this country and that unions built the middle class. On Labor Day, we honor that essential truth and the dedication and dignity of American workers, who power our Nation's prosperity.

They have built the railways, highways, and waterways that connect us from coast to coast, have forged the look and feel of American cities, and have protected our communities and families as first responders. Organized workers have fundamentally transformed how we live and work in this country—from securing the 8-hour work day and overtime pay to mandating standard safety practices in workplaces and earning better health care, pensions, and other benefits for all workers.

American workers are the best in the world, but over the past few decades, too many leaders embraced an economic theory that failed them and our unions. It is called trickle-down economics. It is the belief that we should cut taxes for the wealthy and big corporations and wait for the benefits to trickle down to workers and American families. It is a belief that we should shrink public investment in infrastructure and public education. It is a tax policy that encourages corporations to move operations and jobs overseas.

Trickle-down policies slashed investments in people and communities and allowed big corporations to amass more power while limiting the ability of workers to join unions. It did not matter where companies made things, as long as it helped their bottom line—even if it meant losing the very workers who had helped them succeed. Companies cut staff, shipped good jobs overseas, prioritized cheap labor, and silenced workers' voices. As a result, factories and businesses across the country shut down, entire communities were hollowed out, and for many working people, a path to better their circumstances would never be within reach. People working as hard as ever could not get ahead because it was harder to buy a home, pay for a college education, start a business, and retire with dignity. The moment we embraced trickle-down economics, we walked away from who we are and from the way our Nation was built.

I knew our Nation could not continue with those same failed policies, so I came into office determined to build an economy that grows from the middle out and bottom up, not the top down. And it is working. We have added over 13 million jobs, including 800,000 manufacturing jobs. We added more jobs in my first two years than any President in a single 4-year term because we are investing in America and Americans again.

The Bipartisan Infrastructure Law I signed is a once-in-a-generation investment that puts Americans to work rebuilding our Nation's infrastructure using American-made materials. We have announced nearly 37,000 new projects since we passed the bill. For me, it was a top priority that the overwhelming majority of these investments be covered by Davis-Bacon prevailing wage requirements to make sure the hundreds of thousands of jobs we create are good-paying jobs.

We passed the CHIPS and Science Act to bring semiconductor manufacturing back to American shores and ensure that the United States leads the world in innovation. It has attracted over $166 billion in investment and ignited a semiconductor manufacturing boom. Our Inflation Reduction Act helps build the clean energy industries of the future here at home while incentivizing companies to adopt strong labor standards. Our American Rescue Plan includes funding to protect over two million union workers, retirees, and their families from benefit cuts to the pensions they have earned. All of these investments mean good-paying jobs that American workers can raise their families on, many of which do not require a 4-year college degree.

By investing more in Registered Apprenticeships and in career and technical education programs than any previous administration, we are ensuring that every American—from every region and background—can access the training and education needed to participate in our Nation's economic prosperity. My Administration is working to crack down on non-compete agreements that keep 30 million Americans from taking new jobs with higher wages in their field. We are taking action to protect workers' health and safety from hazards they may be exposed to on the job, such as silica dust and other toxic materials. And my Administration is empowering American workers and giving working families some breathing room by bringing the cost of prescription drugs and health care down for millions of Americans.

I promised to be the most pro-union President in history, and I firmly believe that every worker in America should have the free and fair choice to join a union or organize and bargain collectively with their employer without coercion or intimidation. That is because when organized labor wins, our Nation wins. My Administration will continue to support and encourage labor unions so that workers have a seat at the decision-making table, an opportunity to speak truth to power, and the support to fight for the dignity and respect they deserve.

On Labor Day, we stand in solidarity with all the workers who lift our Nation to new heights and all the labor unions who give all workers power and voice. May we continue working to restore the American Dream for every person willing to work hard in our Nation by embracing what has always been the foundation of our country's success: investing in America and American workers.

NOW, THEREFORE, I, JOSEPH R. BIDEN JR., President of the United States of America, by virtue of the authority vested in me by the Constitution and the laws of the United States, do hereby proclaim September 4, 2023, as Labor Day. I call upon all public officials and people of the United States to observe this day with appropriate programs, ceremonies, and activities that honor the energy and innovation of working Americans.

IN WITNESS WHEREOF, I have hereunto set my hand this first day of September, in the year of our Lord two thousand twenty-three, and of the Independence of the United States of America the two hundred and forty-eighth.

[FR Doc. 2023-19442

Filed 9-6-23; 8:45 am]

Billing code 3395-F3-P